ENVIRONMENTAL PROTECTION AGENCY

40 CFR Part 52

[CO-001-0044b; FRL-6875-4]

Approval and Promulgation of Air Quality Implementation Plans; State of Colorado; Colorado Springs Revised Carbon Monoxide Maintenance Plan and Approval of a Related Revision

AGENCY: Environmental Protection Agency (EPA).

ACTION: Proposed rule.

SUMMARY: EPA is proposing approval of the revised Colorado Springs carbon monoxide (CO) maintenance plan, that is designed to keep the area in attainment for CO through 2010, and revisions to Colorado's Regulation No. 13 “Oxygenated Fuels Program” for the removal of the requirement for the implementation of the wintertime oxygenated fuels program in El Paso County and the Colorado Springs area. The revised maintenance plan and revisions to Regulation No. 13 were submitted by the Governor on May 10, 2000. In the Final Rules section of this Federal Register, EPA is approving the State's State Implementation Plan (SIP) revisions, involving the revised maintenance plan and the changes to Regulation No. 13, as a direct final rule without prior proposal because the Agency views these SIP revisions as noncontroversial and anticipates no adverse comments. A detailed rationale for the approval is set forth in the direct final rule. If no adverse comments are received in response to this rule, no further activity is contemplated in relation to this rule. If EPA receives adverse comments, the direct final rule will be withdrawn and all public comments received will be addressed in a subsequent final rule based on this proposed rule. EPA will not institute a second comment period on this action. Any parties interested in commenting on this action should do so at this time.

DATES: Comments must be received in writing by January 22, 2001.

ADDRESSES: Written comments may be mailed to: Richard R. Long, Director, Air and Radiation Program, Mailcode 8P-AR, United States Environmental Protection Agency, Region VIII, 999 18th Street, Suite 300, Denver, Colorado 80202-2466.

Copies of the documents relevant to this action are available for public inspection between 8:00 a.m. and 4:00 p.m., Monday through Friday at the following office:

United States Environmental Protection Agency, Region VIII, Air Program, 999 18th Street, Suite 300, Denver, Colorado 80202-2466.

FOR FURTHER INFORMATION CONTACT: Tim Russ, Air and Radiation Program, Mailcode 8P-AR, United States Environmental Protection Agency, Region VIII, 999 18th Street, Suite 300, Denver, Colorado 80202-2466; Telephone number (303) 312-6479.

SUPPLEMENTARY INFORMATION: See the information provided in the Direct Final action of the same title which is located in the Rules section of this Federal Register.

Dated: September 14, 2000.
Patricia D. Hull,
Acting Regional Administrator, Region VIII.

[FR Doc. 00-32301 Filed 12-21-00; 8:45 am]

BILLING CODE 6560-50-P